DEPARTMENT OF THE INTERIOR

Bureau of Land Management

[(LLMT926000-L1440000.BJ0000); 16XL1109AF; MO#4500089204]

Notice of Filing of Plats of Survey; North Dakota

AGENCY: Bureau of Land Management, Interior.

ACTION: Notice of filing of plats of survey.

SUMMARY: The Bureau of Land Management (BLM) will file the plat of survey of the lands described below in the BLM Montana State Office, Billings, Montana, on February 19, 2016.

DATES: Protests of the survey must be filed before February 19, 2016 to be considered.

ADDRESSES: Protests of the survey should be sent to the Branch of Cadastral Survey, Bureau of Land Management, 5001 Southgate Drive, Billings, Montana 59101-4669.

FOR FURTHER INFORMATION CONTACT: Marvin Montoya, Cadastral Surveyor, Branch of Cadastral Survey, Bureau of Land Management, 5001 Southgate Drive, Billings, Montana 59101-4669, telephone (406) 896-5124 or (406) 896-5003, HMontoya@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This survey was executed at the request of the Chief, Branch of Fluid Minerals, Bureau of Land Management, Billings, Montana, and was necessary to determine Federal Leasable Mineral lands.

The lands we surveyed are:

Fifth Principal Meridian, North Dakota

T. 147 N., R. 95 W.

The plat, in two sheets, representing the dependent resurvey of a portion of the subdivisional lines, the adjusted original meanders of the former left and right banks of the Little Missouri River, through section 2, and a certain division of accretion line, the subdivision of section 2, and the survey of the meanders of the present left and right banks of the Little Missouri River, through section 2, the limits of erosion in section 2, the left and right banks and medial line of an abandoned channel of the Little Missouri River, in section 2, certain division of accretion and partition lines, and the medial line and partition lines of the present bed of the Little Missouri River, through section 2, Township 147 North, Range 95 West, Fifth Principal Meridian, North Dakota, was accepted January 5, 2016.

Fifth Principal Meridian, North Dakota

T. 148 N., R. 95 W.

The plat, in four sheets, representing the dependent resurvey of a portion of the west boundary of the Fort Berthold Indian Reservation, a portion of the south boundary, a portion of the subdivisional lines, and the adjusted original meanders of the former left and right banks of the Little Missouri River, through sections 33, 34, and 35, the subdivision of certain sections, and the survey of the meanders of the present left and right banks of the Little Missouri River, through sections 33, 34, and 35, the limits of erosion in section 35, the left and right banks and medial line of an abandoned channel of the Little Missouri River, in section 35, certain division of accretion and partition lines, and the medial line and partition lines of the present bed of the Little Missouri River, through sections 33, 34, and 35, Township 148 North, Range 95 West, Fifth Principal Meridian, North Dakota, was accepted January 5, 2016.

We will place a copy of the plats, in six sheets, and related field notes we described in the open files. They will be available to the public as a matter of information. If the BLM receives a protest against this survey, as shown on this plat, in six sheets, prior to the date of the official filing, we will stay the filing pending our consideration of the protest. We will not officially file this plat, in six sheets, until the day after we have accepted or dismissed all protests and they have become final, including decisions or appeals.

Authority: 43 U.S.C. chap. 3.

Joshua F. Alexander,
Acting Chief, Branch of Cadastral Survey, Division of Energy, Minerals and Realty.

[FR Doc. 2016-00948 Filed 1-19-16; 8:45 am]

BILLING CODE 4310-DN-P